DEPARTMENT OF COMMERCE

International Trade Administration

[A-475-703]

Notice of Final Results of Antidumping Duty Administrative Review: Granular Polytetrafluoroethylene Resin From Italy

AGENCY: Import Administration, International Trade Administration, Department of Commerce.

SUMMARY: On September 10, 2001, the Department of Commerce (the Department) published the preliminary results of its twelfth administrative review of the antidumping duty order on Granular Polytetrafluoroethylene Resin from Italy. The review covers one producer/exporter of the subject merchandise, Ausimont SpA, and its U.S. affiliate, Ausimont USA (Ausimont). The period of review (POR) is August 1, 1999, through July 31, 2000. Based on our analysis of comments received, these final results differ from the preliminary results. The final results are listed below in the Final Results of Review section.

EFFECTIVE DATE: January 15, 2002.

FOR FURTHER INFORMATION CONTACT: Vicki Schepker or Amber Musser, at (202) 482-1756 or (202) 482-1777, respectively; AD/CVD Enforcement, Office V, Group II, Import Administration, International Trade Administration, U.S. Department of Commerce, 14th Street & Constitution Avenue, NW., Washington, D.C. 20230.

SUPPLEMENTARY INFORMATION:

Applicable Statute and Regulations

Unless otherwise indicated, all citations to the Tariff Act of 1930, as amended (the Act), are references to the provisions effective January 1, 1995, the effective date of the amendments made to the Act by the Uruguay Round Agreements Act. In addition, unless otherwise indicated, all citations to the Department's regulations are to 19 CFR part 351 (April 2001).

Background

On September 10, 2001, the Department published in the Federal Register the preliminary results of the twelfth administrative review of the antidumping duty order on Granular Polytetrafluoroethylene Resin from Italy. See Notice of Preliminary Results of Antidumping Duty Administrative Review: Granular Polytetrafluoroethylene Resin from Italy, 66 FR 46996 (September 10, 2001) (Preliminary Results).

We invited parties to comment on the Preliminary Results. On October 10, 2001, we received a case brief from the petitioner, E.I. Dupont de Nemours & Company (Dupont). We did not receive a case brief from the respondent, Ausimont. On October 17, 2001, we received a rebuttal brief from Ausimont. No other interested parties filed case or rebuttal briefs.

Scope of the Review

The product covered by this review is granular PTFE resin, filled or unfilled. This order also covers PTFE wet raw polymer exported from Italy to the United States. See Final Affirmative Determination; Granular Polytetrafluoroethylene Resin from Italy, 58 FR 26100 (April 30, 1993). This order excludes PTFE dispersions in water and fine powders. During the period covered by this review, such merchandise was classified under item number 3904.61.00 of the Harmonized Tariff Schedule of the United States (HTS). We are providing this HTS number for convenience and U.S. Customs purposes only. The written description of the scope remains dispositive.

Analysis of Comments Received

All issues raised in the case briefs by parties to this administrative review are addressed in the “Issues and Decision Memorandum” (Decision Memorandum) from Bernard T. Carreau, Deputy Assistant Secretary, Import Administration, to Faryar Shirzad, Assistant Secretary for Import Administration, dated January 8, 2002, which is hereby adopted by this notice. Attached to this notice, as an appendix, is a list of the issues which parties have raised and to which we have responded in the Decision Memorandum. Parties can find a complete discussion of all issues raised in this review and the corresponding recommendations in the public version of this memorandum, which is on file in Room B-099 of the main Commerce building. In addition, a complete version of the public version of the Decision Memorandum can be accessed directly on the Web at ia.ita.doc.gov. The paper copy and electronic version of the Decision Memorandum are identical in content.

Changes Since the Preliminary Determination

Based on our analysis of comments received, we have made an adjustment to the calculation methodology in determining the final dumping margins in the proceeding. For the final determination, we disallowed gains on the sale of securities as an offset to financial expense and recalculated the respondent's interest expense ratio. This adjustment is discussed in the Decision Memorandum.

As a result of our review, we determine that the following weighted-average margin exists for the period of August 1, 1999, through July 31, 2000:

Exporter/Manufacturer | Weighted-Average | Margin Percentage
Ausimont SpA | 2.15

The Department shall determine, and the Customs Service shall assess, antidumping duties on all appropriate entries. In accordance with 19 CFR 351.212(b)(1), we have calculated importer-specific assessment rates based on the ratio of the total amount of antidumping duties calculated for the importer-specific sales to the total entered value of the same sales. Where the assessment rate is above de minimis, we will instruct the Customs Service to assess duties on all entries of subject merchandise by that importer. The Department will issue appraisement instructions directly to the Customs Service.

Furthermore, the following deposit requirements will be effective for all shipments of the subject merchandise entered, or withdrawn from warehouse, for consumption on or after the publication date of these final results of administrative review, as provided by section 751(a) of the Act: (1) For the exporter/manufacturer covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 46.46 percent, the “All Others” rate established in the less-than-fair-value investigation (53 FR 26096, July 11, 1988). These deposit requirements shall remain in effect until publication of the final results of the next administrative review.

This notice also serves as a final reminder to importers of their responsibility under 19 CFR 351.402 (f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305(a)(3). Timely written notification of the return/destruction of APO materials or conversion to judicial protective order is hereby requested. Failure to comply with the regulations and the terms of an APO is a sanctionable violation.

We are issuing and publishing these results and notice in accordance with sections 751(a)(1) and 777(i)(1) of the Act.

Dated: January 8, 2002.
Faryar Shirzad,
Assistant Secretary for Import Administration.

APPENDIX

1. Financial Expense Calculation.

2. Application of the Special Rule.

3. Calculation of Constructed Export Price Profit Ratio.

4. Scope of the Review.

[FR Doc. 02-970 Filed 1-14-02; 8:45 am]

BILLING CODE 3510-DS-P